DEPARTMENT OF TRANSPORTATION

Federal Aviation Administration

Notice of Intent To Rule on Application To Impose and Use the Revenue From a Passenger Facility Charge (PFC) at Rapid City Region Airport, Rapid City, South Dakota

AGENCY: Federal Aviation Administration (FAA), DOT.

ACTION: Notice of Intent to Rule on Application.

SUMMARY: The FAA proposes to rule and invites public comment on the application to impose and use the revenue from a PFC at Rapid City Regional Airport under the provisions of the Aviation Safety and Capacity Expansion Act of 1990 (Title IX of the Omnibus Budget Reconciliation Act of 1990) (Public Law 101-508) and Part 158 of the Federal Aviation Regulations (14 CFR Part 158).

DATES: Comments must be received on or before March 3, 2000.

ADDRESSES: Comments on this application may be mailed or delivered in triplicate to the FAA at the following address: Federal Aviation Administrator, Bismarck Airports District Office, 2000 University Drive, Bismarck, North Dakota 58504.

In addition, one copy of any comments submitted to the FAA must be mailed or delivered to Mr. Bradley A. Hagen, Executive Director, of the Rapid City Regional Airport at the following address: Rapid City Regional Airport, 4550 Terminal Road, Suite 102, Rapid City, South Dakota 57701-8706.

Air carriers and foreign air carriers may submit copies of written comments previously provided to the Rapid City Regional Airport under section 158.23 of Part 158.

FOR FURTHER INFORMATION CONTACT: Ms. Irene R. Porter, Manager, Bismarck Airports District Office, 2000 University Drive, Bismarck, North Dakota 58504, (701) 250-4385. The application may be reviewed in person at this same location.

SUPPLEMENTARY INFORMATION: The FAA proposes to rule and invites public comment on the application to impose and use the revenue from a PFC at Rapid City Regional Airport under the provisions of the Aviation Safety and Capacity Expansion Act of 1990 (Title IX of the Omnibus Budget Reconciliation Act of 1990) (Public Law 101-508) and Part 158 of the Federal Aviation Regulations (14 CFR Part 158).

On January 6, 2000, the FAA determined that the application to impose and use the revenue from a PFC submitted by the Rapid City Regional Airport was substantially complete with the requirements of section 158.25 of Part 158. The FAA will approve or disapprove the application, in whole or in part, no later than April 8, 2000.

The following is a brief overview of the application.

PFC application number.: 00-02-C-00-RAP.

Level of the proposed PFC: $3.00.

Proposed charge effective date: April 1, 2000.

Proposed charge expiration date: June 30, 2003.

Total estimated PFC revenue: $1,791,732.00.

Brief description of proposed project(s): (1) Friction Measuring Device; (2) Access Control Security System; (3) Extend Runway 14 Safety Area & Relocate Road C232; (4) Correct ILS Critical Area for Runway 32; (5) ARFF HVAC Improvements; (6) Airfield Regulators; (7) Snow Removal Equipment (SRE) Storage Facility; (8) Covered Passenger Boarding Walkway Acquisition; (9) Computerized Airfield Lighting Controls; (10) Air Carrier Terminal Building EPS/UPS; (11) General Aviation Taxiways Rehabilitation Project; (12) General Aviation Airport Entrance Road Rehabilitation Project; (13) Asphalt Paving Projects_Alpha and Alpha 3 Taxiways; (14) Airport Entrance Road Rehabilitation; (15) High Intensity Runway Lighting (16) Aircraft Rescue Fire Fighting (ARFF) Vehicle Acquisition; (17) Passenger Loading Bridge (Jetway) Acquisition; (18) Flight Information Display System (FIDS); (19) Snow Blower Acquisition; (20) Snow Removal Equipment (SRE) Acquisition_Plow/Truck/Spreader; (21) Snow Removal Equipment (SRE) Acquisition_Plow/Truck/Spreader; (22) Snow Removal Equipment (SRE) Acquisition_Loader with Ramp Bucket/Plow; (23); Runway 14/32 Rehabilitation Project; (24) Terminal Apron Rehabilitation; and (25) Runway 5/23 Rehabilitation. Class or classes of air carriers which the public agency has requested not be required to collect PFCs: Air Taxi/Commercial Operators Filing FAA Form 1800-31.

Any person may inspect the application in person at the FAA office listed above under FOR FURTHER INFORMATION CONTACT.

In addition, any person may, upon request, inspect the application, notice and other documents germane to the application in person at the Rapid City Regional Airport.

Issued in Des Plaines, Illinois on January 13, 2000.
Benito De Leon,
Manager, Planning and Programming Branch, Airports Division, Great Lakes Region.

[FR Doc. 00-2264 Filed 2-1-00; 8:45 am]

BILLING CODE 4910-13-M